DEPARTMENT OF DEFENSE

Department of the Army

Proposed Collection; Comment Request

AGENCY: Department of the Army, DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 21, 2003.

ADDRESSES: Written comments and recommendations on the proposed information collection should be sent to Department of the Army, Office of the Assistant G-1 (Civilian Personnel Policy), Plans and Strategies Division, Hoffman I, ATTN: DAPE-CP-PL (Murray J. Mack), 2661 Eisenhower Avenue, Hoffman I, Room 400, Alexandria, VA 22332-0300. Consideration will be given to all comments received within 60 days of the date of publication of this notice.

FOR FURTHER INFORMATION CONTACT: To request more information on this proposed information collection or to obtain a copy of the proposal and associated collection instruments, please write to the above address, or call Department of the Army Reports Clearance Officer at (703) 692-1451.

Title: Evaluation Reasons for Non-Acceptance of Department of Army Civilian Job Offers.

Needs and Uses: Applicants for Department of Army civilian jobs will be surveyed to assess reasons why they declined Army jobs offers. The purpose of the survey is to determine which factors contributed to the job candidate's non-acceptance and to make recommendations for improvements.

Affected Public: Individuals or household.

Annual Burden Hours: 292.

Number of Respondents: 2,500.

Responses per Respondent: 1.

Average Burden per Response: 7 minutes.

Frequency: Semi-annually.

SUPPLEMENTARY INFORMATION: This information collection will provide a deeper understanding of the problems the Army faces in recruiting talented and qualified employees. The Department of the Army has a special interest in maintaining a qualified work force in that our national security rests on a foundation of good, capable, knowledgeable people working for the Department of the Army. The purpose of this information collection is to provide a better understanding of which factors influenced job applicants to decline a position with the Department of the Army so that these factors may be addressed and subsequently lead to a better work force.

Luz D. Ortiz,
Army Federal Register Liaison Officer.

[FR Doc. 02-29585 Filed 11-20-02; 8:45 am]

BILLING CODE 3710-08-M